DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR Part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before March 31, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2013-056-C.

Petitioner: Kimmel Mining, Inc., P.O. Box 8, Williamstown, Pennsylvania 17098.

Mine: Williamstown Mine #1, MSHA I.D. No. 36-09435, located in Schuylkill County, Pennsylvania.

Regulation Affected: 30 CFR 75.1002(a) (Installation of electric equipment and conductors; permissibility).

Modification Request: The petitioner requests a modification of the existing standard to permit the use of nonpermissible electronic equipment within 150 feet of pillar workings to include drags and battery locomotives. The petitioner asserts that the request is due in part to the method of mining used in pitching anthracite mines and the alternative evaluation of mine air quality for methane will be conducted on an hourly basis during operation, with one of the gas tests results recorded in the on-shift examination record. The petitioner states that:

(1) Equipment operation will be suspended any time methane concentration at the equipment reaches 0.5 percent methane either during operation or when found during a pre-shift examination.

(2) The equipment will be operated in the working section's only intake entry (gangway), which is regularly traveled and examined.

(3) The use of drags on less than moderate pitching veins (less than 20 degree pitch) is the only practical system of mining in use.

(4) Permissible drags are not commercially available, and due in part to their small size, permissible locomotives are not commercially available.

(5) As a result of low daily production rates and full timbering support, in-rushes of methane due to massive pillar falls are unlikely to occur.

(6) Recovery of the pillars above the first miner heading is usually accomplished on the advance within 150 feet of the section intake (gangway) and the remaining minable pillars are recovered from the deepest point of penetration outby.

(7) The 5,000 cubic feet per minute of required intake air flow is measured just outby the nonpermissible equipment with the ventilating air passing over the equipment to ventilate the pillar being mined.

(8) The electrical equipment is attended during operation, and either power to the unit is deenergized at the intersection of the working gangway and intake slope or the equipment is moved to that area when production ceases, minimizing any ignition potential from the pillar recovery area.

(9) Where more than one active line of pillar breast recovery exists, the locomotive may travel to a point just outby the deepest active chute/breast (room) workings or last open crosscut in a developing set of entries.

The petitioner asserts that the proposed alternative method will at all times guarantee no less than the same measure of protection as that afforded by the existing standard.

Docket Number: M-2013-057-C.

Petitioner: Kimmel Mining, Inc., P.O. Box 8, Williamstown, Pennsylvania 17098.

Mine: Williamstown Mine #1, MSHA I.D. No. 36-09435, located in Schuylkill County, Pennsylvania.

Regulation Affected: 30 CFR 75.1100-2(a) (2) (Quantity and location of firefighting equipment).

Modification Request: The petitioner requests a modification of the existing standard to permit the use of only portable fire extinguishers where the use of rock dust, water cars, and other water storage equipped with three 10-quart pails required by the standard is not practical. The petitioner states that:

(1) Equipping its small anthracite mine with two portable fire extinguishers near the slope bottom and an additional portable fire extinguisher within 500 feet of the working face will provide equivalent fire protection.

(2) Anthracite coal is low in volatile matter and dust is not explosive.

(3) The working section is at or below mine pool elevation, with frequent pumping is required to de-water the work area.

(4) All up-pitch workings of moderate to steep pitch are accessed only through ladders making the carrying of water in pails impractical.

(5) Electric face equipment is nonexistent in this hand-loading anthracite mine and only air-operated equipment is used in or inby the last open crosscut.

(6) The history of underground anthracite mines shows that fires occurring in the working faces are nonexistent in recent years due to improved explosives and low volatile matter in anthracite coal.

(7) This anthracite mine produces far less than the 300 ton per shift criteria using the hand-loading method.

(8) Belt conveyor haulage is not used in this underground mine for section/main haulage, minimizing fire potential.

The petitioner asserts that the proposed alternative method will provide no less than the same measure of protection afforded the miners under the existing standard.

Docket Number: M-2013-058-C.

Petitioner: Kimmel Mining, Inc., P.O. Box 8, Williamstown, Pennsylvania 17098.

Mine: Williamstown Mine #1, MSHA I.D. No. 36-09435, located in Schuylkill County, Pennsylvania.

Regulation Affected: 30 CFR 75.1200(d) & (i) (Mine maps).

Modification Request: The petitioner requests a modification of the existing standard to permit the use of cross-sections in lieu of contour lines on mine maps through the intake slope, at locations of rock tunnel connections between veins, and at 1,000 feet intervals of advance from the intake slope. In addition, the petitioner proposes to limit the required mapping of mine workings above and below to those present within 100 feet of the vein(s) being mined unless the veins are interconnected to other veins beyond the 100 feet limit through rock tunnels. The petitioner states that:

(1) Due to the steep pitch encountered in mining anthracite coal veins, contours provide no useful information and their presence would make portions of the map illegible.

(2) The use of cross-sections in lieu of contour lines has been practiced since the late 1800's and provides critical information about spacing between veins and proximity to other mine workings, which fluctuate considerably.

(3) The vast majority of current underground anthracite mining involves either second mining of remnant pillars from previous mining or the mining of veins of lower quality in proximity to inaccessible and frequently flooded abandoned mine workings that may or may not be mapped.

(4) All mapping for mines above and below is researched by the petitioner's contract engineer for the presence of interconnecting rock tunnels between veins in relation to the mine, and a hazard analysis is done when mapping indicates the presence of known or potentially flooded workings.

(5) When no rock tunnel connections are found, mine workings that exist beyond 100 feet from the mine, are recognized as presenting no hazard to the mine due to the pitch of the vein and rock separation.

(6) Additionally, the mine workings above and below are usually inactive and abandoned and, therefore, are not subject to changes during the life of the mine.

(7) Where evidence indicates prior mining was conducted on a vein above or below and research exhausts the availability of mine mapping, the vein will be considered mined and flooded and appropriate precautions will be taken through § 75.388, which addresses drilling boreholes in advance of mining, where possible.

(8) Where potential hazards exist and in-mine drilling capabilities limit penetration, surface boreholes may be used to intercept the workings and the results analyzed prior to beginning mining in the affected area.

The petitioner asserts that the proposed alternative method will provide no less than the same measure of protection afforded the miners under the existing standard.

Docket Number: M-2013-059-C.

Petitioner: Kimmel Mining, Inc., P.O. Box 8, Williamstown, Pennsylvania 17098.

Mine: Williamstown Mine #1, MSHA I.D. No. 36-09435, located in Schuylkill County, Pennsylvania.

Regulation Affected: 30 CFR 75.1202-1(a) (Temporary notations, revisions and supplements).

Modification Request: The petitioner requests a modification of the existing standard to permit the interval of survey to be established on an annual basis from the initial survey in lieu of every 6 months as required. The petitioner proposes to continue to update the mine map by hand notations on a daily basis, and conduct subsequent surveys prior to commencing retreat mining and whenever either a drilling program under § 75.388 or a plan for mining into inaccessible areas under § 75.389 is required. The petitioner states that:

(1) The low production and slow rate of advance in anthracite mining make surveying on 6-month intervals impractical. In most cases annual development is frequently limited to less than 500 feet of gangway advance with associated up-pitch development.

(2) The vast majority of small anthracite mines are non-mechanized and use hand-loading mining methods.

(3) Development above the active gangway is designed to mine into the level above at designated intervals thereby maintaining sufficient control between both surveyed gangways.

(4) The available engineering/surveyor resources are limited in the anthracite coal fields and surveying on an annual basis is difficult to achieve with four individual contractors currently available.

The petitioner asserts that the proposed alternative method will provide no less than the same measure of protection afforded the miners under the existing standard.

Docket Number: M-2013-060-C.

Petitioner: Kimmel Mining, Inc., P.O. Box 8, Williamstown, Pennsylvania 17098.

Mine: Williamstown Mine #1, MSHA I.D. No. 36-09435, located in Schuylkill County, Pennsylvania.

Regulation Affected: 30 CFR 75.1400 (Hoisting equipment; general).

Modification Request: The petitioner seeks to permit the use of a slope conveyance (gunboat) to transport persons without safety catches or other no less effective devices but instead use an increased rope strength/safety factor and secondary safety rope connection in place of such devices. The petitioner states that:

(1) The haulage slope of this mine is typical of those in the anthracite region, having a relatively high angle and frequently changing pitches.

(2) A functional safety catch capable of working in slopes with knuckles and curves is not commercially available. If a makeshift device is installed, it could activate on knuckles or curves when no emergency existed. The activation of a safety catch could damage the haulage system and subject persons being transported to hazards such as being battered about within the conveyance.

(3) A safer alternative is to provide secondary safety connections securely fastened around the gunboat and to the hoisting rope above the main connecting device. Additionally, the petitioner will use hoisting ropes having a factor of safety greater than recommended in the American Standards Specifications for the Use of Wire Rope in Mines or at least three times greater than the strength required under § 75.1431(a).

(4) Furthermore, the slope and haulage system at this mine are essentially the same as those for which petitions granting the use of the alternative suggestion have been approved since 1973.

The petitioner asserts that the proposed alternative method will provide no less than the same measure of protection afforded the miners under the existing standard.

Docket Number: M-2013-061-C.

Petitioner: S & J Coal Mine, Inc., 15 Motter Drive, Pine Grove, Pennsylvania 17963.

Mine: Slope #2 Mine, MSHA I.D. No. 36-09963, located in Schuylkill County, Pennsylvania.

Regulation Affected: 30 CFR 75.1400 (Hoisting equipment; general).

Modification Request: The petitioner seeks to permit the use of a slope conveyance (gunboat) to transport persons without safety catches or other no less effective devices but instead use an increased rope strength/safety factor and secondary safety rope connection in place of such devices. The petitioner states that:

(1) The haulage slope of this mine is typical of those in the anthracite region, having a relatively high angle and frequently changing pitches.

(2) A functional safety catch capable of working in slopes with knuckles and curves is not commercially available. If a makeshift device is installed, it could activate on knuckles or curves when no emergency existed. The activation of a safety catch could damage the haulage system and subject persons being transported to hazards such as being battered about within the conveyance.

(3) A safer alternative is to provide secondary safety connections securely fastened around the gunboat and to the hoisting rope above the main connecting device. Additionally, the petitioner will use hoisting ropes having a factor of safety greater than recommended in the American Standards Specifications for the Use of Wire Rope in Mines or at least three times greater than the strength required under § 75.1431(a).

(4) Furthermore, the slope and haulage system at this mine are essentially the same as those for which petitions granting the use of the alternative suggestion have been approved since 1973.

The petitioner asserts that the proposed alternative method will provide no less than the same measure of protection afforded the miners under the existing standard.

Dated: February 21, 2014.
Patricia W. Silvey,
Certifying Officer.

[FR Doc. 2014-04243 Filed 2-26-14; 8:45 am]

BILLING CODE 4510-43-P